DEPARTMENT OF JUSTICE

Notice of Lodging of Consent Decree Pursuant to the Comprehensive Environmental Response, Compensation and Liability Act “CERCLA”

In accordance with Departmental policy, 28 CFR 50.7, notice is hereby given that a Consent Decree in United States v. Cabot Corporation et al., with Cabot Corporation; Carpenter Technology Corporation; Ford Motor Company; International Flavors and Fragrances, Inc.; Johnson Matthey, Inc.; Rütgers Organics Corporation; Spectraserv, Inc., f/k/a Modern Transportation and A&S Transportation Co.; Waste Management of New Jersey, Inc.; CWM Chemical Services, LLC; and Spiral Metal Company, Inc. (hereinafter referred to as “Settling Defendants”) at the Evor Phillips Leasing Superfund Site (“Site”). Civil No.3:09-cv-5263, was lodged on October 15, 2009, with the United States District Court for the District of New Jersey.

The Consent Decree resolves claims for response costs and injunctive relief against Settling Defendants, under the Sections 106, 107 and 113 of the Comprehensive Environmental Response, Compensation and Liability Act of 1980, as amended, (“CERCLA”), 42 U.S.C. 9601, et seq. and regulations promulgated thereunder. In this action, the United States seeks injunctive relief requiring defendants to perform the response actions selected in EPA's Record of Decision (“ROD”) for Operable Unit 2 (“OU2”) at the Site, located on Old Waterworks Road in the Township of Old Bridge, Middlesex County, New Jersey. The United States also seeks to recover certain costs incurred or to be incurred by the United States in connection with the release or threatened release of hazardous substances into the environment at or from the Site.

Pursuant to the Consent Decree, Settling Defendants have agreed under this Consent Decree to implement the remedy selected in the OU2 ROD to address soil contamination at the Site, pay $231,000 in past costs (96%) plus interest on all such costs which has accrued after February 2, 2009, and pay Future Response Costs.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Cabot Corporation, et al.; Civil Action No., D.J. Ref. No.90-11-3-07162/2.

The proposed Consent Decree may be examined at the Office of the United States Attorney, District of New Jersey, 970 Broad Street, Room 502, Newark, New Jersey 07102, and at the United States Environmental Protection Agency, 290 Broadway, New York, New York 10007-1866. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.60 (25 cents per page reproduction cost) payable to the U.S. Treasury or, if by e-mail or fax, forward a check in that amount to the Consent Decree Library at the stated address.

Maureen Katz,
Assistant Chief, Environmental Enforcement Section, Environment and Natural Resources Division.

[FR Doc. E9-25354 Filed 10-21-09; 8:45 am]

BILLING CODE 4410-15-P